NUCLEAR REGULATORY COMMISSION

[NRC-2011-0191]

Draft License Renewal Interim Staff Guidance LR-ISG-2011-05: Ongoing Review of Operating Experience Request for Public Comment

AGENCY: Nuclear Regulatory Commission (NRC).

ACTION: Draft license renewal guidance; request for comment.

SUMMARY: The NRC requests public comment on Draft License Renewal Interim Staff Guidance (LR-ISG), LR-ISG-2011-05, “Ongoing Review of Operating Experience.” This LR-ISG provides guidance and clarification concerning ongoing review of plant-specific and industry-wide operating experience as an attribute of aging management programs used at nuclear power plants for compliance with Title 10 of the Code of Federal Regulations (10 CFR) part 54, “Requirements for Renewal of Operating Licenses for Nuclear Power Plants.”

DATES: Comments must be filed no later than September 23, 2011. Comments received after this date will be considered, if it is practical to do so, but the NRC staff is able to ensure consideration only for comments received on or before this date.

ADDRESSES: Please include Docket ID NRC-2011-0191 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2011-0191. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The draft LR-ISG proposes to revise the NRC staff's recommended aging management programs in NUREG-1801, Revision 2, “Generic Aging Lessons Learned (GALL) Report,” and the NRC staff's aging management review procedures and acceptance criteria in NUREG-1800, Revision 2, “Standard Review Plan for Review of License Renewal Applications for Nuclear Power Plants” (SRP-LR). The NRC published both of these reports in December 2010 and they are available in ADAMS under Accession Nos. ML103490036 and ML103490041, respectively. The draft LR-ISG-2011-05 is available electronically under ADAMS Accession Number ML11203A411.

• Federal Rulemaking Web Site: Public comments and supporting materials related to this notice can be found at http://www.regulations.gov by searching on Docket ID NRC-2011-0191.

• NRC's Interim Staff Guidance Web Site: LR-ISG documents are also available online under the “License Renewal” heading at http://www.nrc.gov/reading-rm/doc-collections/#int.

FOR FURTHER INFORMATION CONTACT: Mr. Matthew Homiack, Division of License Renewal, Office of Nuclear Reactor Regulation, U.S. Nuclear Regulatory Commission, Washington, DC 20555-0001; telephone: 301-415-1683; or e-mail: Matthew.Homiack@nrc.gov.

Background

The NRC issues LR-ISGs to communicate insights and lessons learned and to address emergent issues not covered in license renewal guidance documents, such as the GALL Report and SRP-LR. In this way, the NRC staff and stakeholders may use the guidance in an LR-ISG document before it is incorporated into a formal license renewal guidance document revision. The NRC staff issues LR-ISG in accordance with the LR-ISG Process, Revision 2 (ADAMS Accession No. ML100920158), for which a notice of availability was published in the Federal Register on June 22, 2010 (75 FR 35510).

The NRC staff has developed draft LR-ISG-2011-05 to clarify guidance on how the ongoing review of operating experience should be used to ensure the effectiveness of the license renewal aging management programs. While the SRP-LR states that an acceptable aging management program should include the ongoing review of operating experience, the program descriptions in the GALL Report do not reflect this guidance. As such, the NRC staff is proposing revisions to the GALL Report aging management programs to better align them with the guidance in the SRP-LR. The NRC staff is also proposing to revise its review procedures and acceptance criteria for comparing aging management review results with the GALL Report to better address this issue. In addition, the NRC staff is proposing to clarify the SRP-LR's description of the operating experience program element. One reason for this clarification is to better describe how license renewal applicants should obligate themselves to the ongoing review of operating experience for license renewal.

The NRC staff's proposed guidance addresses the ongoing review of operating experience as a generic activity applicable to all license renewal aging management programs. The NRC staff believes that this approach is consistent with how nuclear power plant licensees currently implement operating experience review activities. In addition, the NRC staff is proposing that licensees may credit these existing operating experience review activities, provided they ensure that these existing activities are appropriate for reviewing operating experience specifically related to aging management.

Proposed Action

By this action, the NRC is requesting public comments on draft LR-ISG-2011-05. This LR-ISG proposes certain revisions to NRC guidance on implementation of the requirements in 10 CFR part 54. The NRC staff will make a final determination regarding issuance of the LR-ISG after it considers any public comments received in response to this request.

Dated at Rockville, Maryland, this 16th day of August 2011.
For the Nuclear Regulatory Commission.
Brian E. Holian,
Director, Division of License Renewal, Office of Nuclear Reactor Regulation.

[FR Doc. 2011-21629 Filed 8-23-11; 8:45 am]

BILLING CODE 7590-01-P